Title 3—

The President

Executive Order 13380 of June 17, 2005

Implementing Amendments to Agreement on Border

Environment Cooperation Commission and North American Development Bank

By the authority vested in me as President by the Constitution and the laws of the United States of America, including section 533 of the North American Free Trade Agreement Implementation Act (19 U.S.C. 3473), it is hereby ordered as follows:

Section 1. Executive Order 12916 of May 13, 1994, is amended as follows:

(a) in section 1, by inserting “, as amended by the Protocol of Amendment done at Washington and Mexico City, November 25 and 26, 2002” after “North American Development Bank”;

(b) by striking section 2 and inserting in lieu thereof the following:

“Sec. 2. (a) The Secretary of State, the Secretary of the Treasury, and the Administrator of the Environmental Protection Agency shall be members of the Board of Directors of the Border Environment Cooperation Commission and the North American Development Bank (“Board”) as provided in clauses (1), (3), and (5) of article II in chapter III of the Agreement.

(b) Appointments to the Board under clauses (7) and (9) of article II in chapter III of the Agreement shall be made by the President. Individuals so appointed shall serve at the pleasure of the President.

(c) The Secretary of the Treasury is selected to be the Chairperson of the Board during any period in which the United States is to select the Chairperson under article III in chapter III of the Agreement.

(d) Except with respect to functions assigned by section 4, 5, 6, or 7 of this order, the Secretary of the Treasury shall coordinate with the Secretary of State, the Administrator of the Environmental Protection Agency, such other agencies and officers as may be appropriate, and the individuals appointed under subsection 2(b) as may be appropriate, the development of the policies and positions of the United States with respect to matters coming before the Board.”;

(c) in section 3, by striking subsections (a), (b), and (c), striking “(d)”, and striking “representatives” and inserting in lieu thereof “members of the Board listed in subsections 2(a) and (b)”;

(d) in section 6, by striking “Advisory Committee” and inserting in lieu thereof “Community Adjustment and Investment Program Advisory Committee (“Advisory Committee”) established pursuant to section 543(b) of the NAFTA Implementation Act”; and

(e) in section 7(c), by striking “Members” and inserting in lieu thereof “members”.

Sec. 2. This order is intended only to improve the internal management of the executive branch and is not intended to, and does not, create any right or benefit, substantive or procedural, enforceable at law or in equity by any party against the United States, its departments, agencies, entities, officers, employees, or agents, or any other person.

B

THE WHITE HOUSE,

June 17, 2005.

[FR Doc. 05-12354

Filed 6-20-05; 8:45 am]

Billing code 3195-01-P